DEPARTMENT OF HOMELAND SECURITY

Coast Guard

[Docket No. USCG-2017-0768]

Merchant Marine Personnel Advisory Committee

AGENCY: U.S. Coast Guard, Department of Homeland Security.

ACTION: Notice of Federal Advisory Committee meeting.

SUMMARY: The Merchant Marine Personnel Advisory Committee (MERPAC) meeting scheduled for September 14 and 15, 2017 and announced in the Federal Register on August 22, 2017 (82 FR 39879) has been cancelled. A notice of meeting will be published in the Federal Register when the meeting is rescheduled.

FOR FURTHER INFORMATION CONTACT: Mr. Davis J. Breyer, Alternate Designated Federal Officer of the Merchant Marine Personnel Advisory Committee, 2703 Martin Luther King Jr. Ave. SE., Stop 7509, Washington, DC 20593-7509, telephone 202-372-1445, fax 202-372-8382 or davis.j.breyer@uscg.mil.

Dated: September 7, 2017.
F.J. Sturm,
Acting Director of Commercial Regulations and Standards.

[FR Doc. 2017-19328 Filed 9-7-17; 4:15 pm]

BILLING CODE 9110-04-P